DEPARTMENT OF THE INTERIOR

Bureau of Safety and Environmental Enforcement

[Docket ID No. BSEE-2011-0002; OMB Control Number 1014-0016]

Information Collection Activities: Pipelines and Pipeline Rights-of-Way; Submitted for Office of Management and Budget (OMB) Review; Comment Request

AGENCY: Bureau of Safety and Environmental Enforcement, Interior.

ACTION: 30-day Notice.

SUMMARY: To comply with the Paperwork Reduction Act of 1995 (PRA), BSEE is notifying the public that we have submitted to OMB an information collection request (ICR) to renew approval of the paperwork requirements in the regulations under Subpart J, “Pipelines and Pipeline Rights-of-Way.” This notice also provides the public a second opportunity to comment on the revised paperwork burden of these regulatory requirements.

DATES: You must submit comments by April 18, 2012.

ADDRESSES: Submit comments by either fax (202) 395-5806 or email (OIRA_DOCKET@omb.eop.gov) directly to the Office of Information and Regulatory Affairs, OMB, Attention: Desk Officer for the Department of the Interior (1014-0016). Please provide a copy of your comments to BSEE by any of the means below.

• Electronically: go to http://www.regulations.gov. In the entry titled, “Enter Keyword or ID,” enter BSEE-2011-0002 then click search. Follow the instructions to submit public comments and view all related materials. We will post all comments.

• Email nicole.mason@bsee.gov, fax (703) 787-1546, or mail or hand-carry comments to: Department of the Interior; Bureau of Safety and Environmental Enforcement; Attention: Nicole Mason; 381 Elden Street, HE3313; Herndon, Virginia 20170-4817. Please reference 1014-0016 in your comment and include your name and return address.

FOR FURTHER INFORMATION CONTACT: Nicole Mason, Regulations and Development Branch, (703) 787-1605, to request additional information about this ICR. To see a copy of the entire ICR submitted to OMB, go to http://www.reginfo.gov (select Information Collection Review, Currently Under Review).

SUPPLEMENTARY INFORMATION:

Title: 30 CFR 250, Subpart J, Pipelines and Pipeline Rights-of-Way.

Form: BSEE-0149.

OMB Control Number: 1014-0016.

Abstract: The Outer Continental Shelf (OCS) Lands Act, as amended (43 U.S.C. 1331 et seq. and 43 U.S.C. 1801 et seq.), authorizes the Secretary of the Interior to prescribe rules and regulations necessary for the administration of the leasing provisions of the Act related to mineral resources on the OCS. Such rules and regulations will apply to all operations conducted under a lease, right-of-way (ROW), or a right-of-use and easement. Section 1334(e) authorizes the Secretary to grant ROWs through the submerged lands of the OCS for pipelines “* * * for the transportation of oil, natural gas, sulphur, or other minerals, or under such regulations and upon such conditions as may be prescribed by the Secretary, * * * including (as provided in section 1347(b) of this title) assuring maximum environmental protection by utilization of the best available and safest technologies, including the safest practices for pipeline burial * * *.”

The Independent Offices Appropriations Act (31 U.S.C. 9701), the Omnibus Appropriations Bill (Pub. L. 104-133, 110 Stat. 1321, April 26, 1996), and OMB Circular A-25, authorize Federal agencies to recover the full cost of services that confer special benefits. This authority and responsibility are among those delegated to BSEE. BSEE regulations specify cost recovery service fees for pipeline and assignment applications.

This information collection (IC) request addresses the regulations under 30 CFR 250, subpart J, on pipelines and pipeline ROWs and is considered a revision. Between the initial 60-day FR notice and now, BSEE requested and obtained OMB approval via a Notice of Action (12/12/2011) to transfer 1010-0050 to 1014-0016. This transfer was a result of the Bureau of Ocean Energy Management, Regulations and Enforcement splitting into two bureaus and some specific subpart J regulatory requirements going to both bureaus. Therefore, the program change is due to that final rulemaking (76 FR 64432) where the requirements pertaining to bonding (Form BOEM-2030; § 250.1011) have been removed from BSEE regulations and are now located in the Bureau of Ocean Energy Management regulations (30 CFR 550.1011). This collection also covers the related Notices to Lessees and Operators (NTLs) that BSEE issues to clarify and provide additional guidance on some aspects of the regulations.

Regulations at 30 CFR part 250, subpart J, implement these statutory requirements. We use the information to ensure those activities are performed in a safe manner. BSEE needs information concerning the proposed pipeline and safety equipment, inspections and tests, and natural and manmade hazards near the proposed pipeline route. BSEE uses the information to review pipeline designs prior to approving an application for an ROW or lease term pipeline to ensure that the pipeline, as constructed, will provide for safe transportation of oil and gas and other minerals through the submerged lands of the OCS. We review proposed pipeline routes to ensure that the pipeline would not conflict with any State requirements or unduly interfere with other OCS activities. BSEE reviews proposals for taking pipeline safety equipment out of service to ensure alternate measures are used that will properly provide for the safety of the pipeline and associated facilities (platform, etc.). We review notification of relinquishment of an ROW grant and requests to abandon pipelines to ensure that all legal obligations are met and pipelines are properly abandoned. BSEE monitors the records concerning pipeline inspections and tests to ensure safety of operations and protection of the environment and to schedule their workload to permit witnessing and inspecting operations. Information is also necessary to determine the point at which the Department of the Interior or the Department of Transportation (DOT) has regulatory responsibility for a pipeline and to be informed of the identified operator if not the same as the ROW holder.

The following form is also submitted to BSEE under subpart J:

BSEE-0149—Assignment of Federal OCS Pipeline Right-of-Way Grant: BSEE uses the information to track the ownership of pipeline ROWs; as well as use the information to update the corporate database that is used to determine what leases are available for a Lease Sale and the ownership of all OCS leases.

We will protect information from respondents considered proprietary under the Freedom of Information Act (5 U.S.C. 552) and its implementing regulations (43 CFR part 2); also under regulations at 30 CFR 250.197, “Data and information to be made available to the public or for limited inspection,” and 30 CFR 252, “Outer Continental Shelf (OCS) Oil and Gas Information Program.”

No items of a sensitive nature are collected. Responses are mandatory or are required to obtain or retain a benefit.

Frequency: On occasion, annual.

Description of Respondents: Potential respondents include lessees, operators, and holders of pipeline ROWs.

Estimated Reporting and Recordkeeping Hour Burden: The estimated annual hour burden for this information collection is a total of 55,072 hours. The following chart details the individual components and estimated hour burdens. In calculating the burdens, we assumed that respondents perform certain requirements in the normal course of their activities. We consider these to be usual and customary and took that into account in estimating the burden.

BILLING CODE 4310-VH-P

Estimated Reporting and Recordkeeping Non-Hour Cost Burden: We have identified seven non-hour paperwork cost burdens for this collection. However, note that the actual service fee amounts are specified in 30 CFR 250.125, which provides a consolidated table of the service fees required under the 30 CFR 250 regulations. The non-hour cost burdens (cost recovery fees) in this IC total an estimated $1,824,851, and they are required under:

Section 250.1000(b)—New Pipeline Application (lease term)—$3,283.

Section 250.1000(b)—Pipeline Application Modification (lease term)—$1,906.

Section 250.1000(b)—Pipeline Application Modification (ROW)—$3,865.

Section 250.1008(e)—Pipeline Repair Notification—$360.

Section 250.1015(a)—Pipeline ROW Grant Application—$2,569.

Section 250.1015(a)—Pipeline Conversion from Lease term to ROW—$219.

Section 250.1018(b)—Pipeline ROW Assignment—$186.

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *.” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on December 5, 2011, we published a Federal Register notice (76 FR 75894) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

Public Comment Procedures: Before including your address, phone number, email address, or other personal identifying information in your comment, you should be aware that your entire comment—including your personal identifying information—may be made publicly available at any time. While you can ask us in your comment to withhold your personal identifying information from public review, we cannot guarantee that we will be able to do so.

Acting BSEE Information Collection Clearance Officer: Cheryl Blundon (703) 787-1607.

Dated: February 22, 2012.
Douglas W. Morris,
Chief, Office of Offshore Regulatory Programs.

[FR Doc. 2012-5944 Filed 3-16-12; 8:45 am]

BILLING CODE 4310-VH-C